DEPARTMENT OF TRANSPORTATION

Federal Aviation Administration

14 CFR Part 39

[Docket No. FAA-2005-19473; Directorate Identifier 2004-CE-35-AD; Amendment 39-14146; AD 2005-13-09]

RIN 2120-AA64

Airworthiness Directives; GROB-WERKE Model G120A Airplanes

AGENCY: Federal Aviation Administration, DOT.

ACTION: Final rule; correction.

SUMMARY: This document incorporates corrections to add service information to Airworthiness Directive (AD) 2005-13-09, which was published in the Federal Register on June 22, 2005 (70 FR 35993). AD 2005-13-09 applies to certain GROB-WERKE Model G120A airplanes. This action adds GROB-WERKE Service Bulletin No. MSB1121-052/2, dated February 14, 2005, to paragraphs (e)(1), (e)(2), and (h) of AD 2005-13-09. This service information was included in the notice of proposed rulemaking (NPRM) for this AD, but we inadvertently omitted it in the final rule request for comments. We are re-issuing the AD in its entirety to help eliminate any confusion that this AD may have created.

DATES: The effective date of this AD remains July 26, 2005. As of July 26, 2005, the Director of the Federal Register approved the incorporation by reference of certain publications listed in the regulation.

ADDRESSES: To get the service information identified in this AD, contact GROB-WERKE, Burkart Grob e.K., Unternehmenbereich Luft-und Raumfahrt, Lettenbachstrasse 9, 86874 Tussenhausen-Mattsies, Germany; telephone: 011 49 8268 998 105; facsimile: 011 49 8268 998 200. To review this service information, go to the National Archives and Records Administration (NARA). For information on the availability of this material at NARA, go to: http://www.archives.gov/federal_register/code_of_federal_regulations/ibr_locations.html or call (202) 741-6030.

To view the AD docket, go to the Docket Management Facility; U.S. Department of Transportation, 400 Seventh Street, SW., Nassif Building, Room PL-401, Washington, DC 20590-001 or on the Internet at http://dms.dot.gov. The docket number is FAA-2004-19473.

FOR FURTHER INFORMATION CONTACT: Karl Schletzbaum, Aerospace Engineer, ACE-112, Small Airplane Directorate, 901 Locust, Room 301, Kansas City, Missouri 64106; telephone: 816-329-4146; facsimile: 816-329-4090.

SUPPLEMENTARY INFORMATION:

Discussion

On June 14, 2005, FAA issued AD 2005-13-09, Amendment 39-14146 (70 FR 35993, June 22, 2005), which applies to certain GROB-WERKE Model G120A airplanes. That AD requires you to replace the main landing gear (MLG) up-lock hook assembly.

Need for This Action

GROB-WERKE Service Bulletin No. MSB1121-052/2, dated February 14, 2005, was included in the NPRM, but we inadvertently omitted it from AD 2005-13-09. We are adding it paragraphs (e)(1), (e)(2), and (h) of this AD.

We are clarifying and re-issuing the AD in its entirety to help eliminate any confusion that this AD may have created.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-13-09 GROB-WERKE: Amendment 39-14146; Docket No. FAA-2005-19473; Directorate Identifier 2004-CE-35-AD.

When Does This AD Become Effective?

(a) The effective date of this AD (2005-13-09) remains July 26, 2005.

What Other ADs Are Affected by This Action?

(b) None.

What Airplanes Are Affected by This AD?

(c) This AD affects the following airplane models and serial numbers that are certificated in any category: Model G120A, all serial numbers beginning with 85001.

What Is the Unsafe Condition Presented in This AD?

(d) This AD results from a report that the main landing gear (MLG) may not extend because of contamination or misalignment of the assembly. The actions specified in this AD are intended to prevent the MLG from becoming jammed and not extending, which could result in loss of control of the airplane during landing.

(e) To address this problem, you must do the following:

Actions | Compliance | Procedures
(1) Remove MLG up-lock hook assembly and replace with the new MLG up-lock hook assembly | Within 100 hours time-in-service after July 26, 2005 (the effective date of this AD), unless already done | Follow GROB-WERKE Service Bulletin No. MSB1121-052/2, dated February 14, 2005; and GROB-WERKE Service Bulletin No.MSB1121-060, dated March 7, 2005.
(2) For all serial numbers: Do not install any elevator and aileron hinge pins that are not part number SY991A hinge pins | After July 26, 2005 (the effective date of this AD) | Follow GROB-WERKE Service Bulletin No. MSB1121-052/2, dated February 14, 2005; and GROB-WERKE Service Bulletin No. MSB1121-060, dated March 7, 2005.

May I Request an Alternative Method of Compliance?

(f) You may request a different method of compliance or a different compliance time for this AD by following the procedures in 14 CFR 39.19. Unless FAA authorizes otherwise, send your request to your principal inspector. The principal inspector may add comments and will send your request to the Manager, Small Airplane Directorate, FAA. For information on any already approved alternative methods of compliance, contact Karl Schletzbaum, Aerospace Engineer, ACE-112, Small Airplane Directorate, 901 Locust, Room 301, Kansas City, Missouri 64106; telephone: 816-329-4146; facsimile: 816-329-4090.

Is There Other Information That Relates to This Subject?

(g) Luftfahrt-Bundesamt Airworthiness Directive D-2004-299R2, dated March 15, 2005; GROB-WERKE Service Bulletin No. MSB1121-052/2, dated February 14, 2005; and GROB-WERKE Service Bulletin No. MSB1121-060, dated March 7, 2005; also address the subject of this AD.

Does This AD Incorporate Any Material by Reference?

(h) You must do the actions required by this AD following the instructions in GROB-WERKE Service Bulletin No. MSB1121-052/2, dated February 14, 2005; and GROB-WERKE Service Bulletin No. MSB1121-060, dated March 7, 2005. The Director of the Federal Register approved the incorporation by reference of these service bulletins in accordance with 5 U.S.C. 552(a) and 1 CFR part 51. To get a copy of this service information, contact GROB-WERKE, Burkart Grob e.K., Unternehmenbereich Luft-und Raumfahrt, Lettenbachstrasse 9, 86874 Tussenhausen-Mattsies, Germany; telephone: 011 49 8268 998 105; facsimile: 011 49 8268 998 200. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2004-19616.

Issued in Kansas City, Missouri, on August 15, 2005.
Terry L. Chasteen,
Acting Manager, Small Airplane Directorate, Aircraft Certification Service.

[FR Doc. 05-16440 Filed 8-22-05; 8:45 am]

BILLING CODE 4910-13-P